DEPARTMENT OF COMMERCE

National Oceanic and Atmospheric Administration

National Sea Grant Review Panel

AGENCY: National Oceanic and Atmospheric Administration, Commerce.

ACTION: Notice of public meeting.

SUMMARY: This notice sets forth the schedule and proposed agenda of a forthcoming meeting of the Sea Grant Review Panel. The meeting will have several purposes. Panel members will discuss and provide advice on the National Sea Grant College Program in the areas of program evaluation, education and extension, science and technology programs, and other matters as described below:

DATES: The announced meeting is scheduled during two days: Tuesday, October 22, 8:30 a.m. to 6 p.m.; Wednesday, October 23, 8:30 a.m. to 12:15 p.m.

ADDRESSES: U.S. Department of Commerce, Herbert C. Hoover Building, 14th & Constitution Avenue, Northwest, Room 6059, Washington, DC 20230.

FOR FURTHER INFORMATION CONTACT: Dr. Ronald C. Baird, Director, National Sea Grant College program, National Oceanic and Atmospheric Administration, 1315 East-West Highway, Room 11761, Silver Spring, Maryland 20910, (301) 713-2448.

SUPPLEMENTARY INFORMATION: The Panel, which consists of a balanced representation from academic, industry, state government and citizens groups, was established in 1976 by Section 209 of the Sea Grant Improvement Act (Public Law 94-461, 33 U.S.C. 1128). The Panel advises the Secretary of Commerce and the Director of the National Sea Grant College Program with respect to operations under the Act, and such other matters as the Secretary refers to them for review and advice. The agenda for the meeting is as follows:

Tuesday, October 22, 2002

8:30 a.m.—Welcoming and Opening of Meeting, Approval of Minutes and Agenda, Introductory Remarks.

8:45 a.m.—Executive Committee Report, Summary of Executive Committee Meeting, Meetings with NOAA, Leadership Retreat, Sea Grant Association.

9:15 a.m.—State of Sea Grant, Strategy in the Next Five Years, Reauthorization/OMB—Competition and Merit, Strategic Planning in Sea Grant and NOAA, NOAA's Changing Organizational Structure, National Ocean Commission, Improving Sea Grant's Role in NOAA.

10 a.m.—Sea Grant Association President's Report.

10:30 a.m.—Break.

10:45 a.m.—Draft Allocation Policy.

11:30 a.m.—Program Evaluation.

12:15 p.m.—Fisheries Extension.

12:45 p.m.—Lunch.

2 p.m.—Sea Grant and NOAA, Functions of the NOAA Sea Grant Office, Discussion: Strategy to Better Integrate Sea Grant into NOAA, National Communications Strategy.

4 p.m.—Panel Roundtable for New Members, How the Panel Operates, Recent Reports, Panel Member Insights. Wednesday, October 23, 2002

8:30 a.m.—NOAA Update.

9:30 a.m.—Congressional Update.

10:30 a.m.—Break.

10:45 a.m.—Debrief on the Executive Committee Meetings

11:15 a.m.—NSGO Update, National Competitions, New Hampshire Sea Grant College Application, FY2003 Budget, Education Update, Climate Extension.

12 noon—Wrap-up, Sea Grant Week Meeting.

12:15 p.m.—Adjourn.

Dated: October 3, 2002.
Louisa Koch,
Acting Assistant Administrator, Office of Oceanic and Atmospheric Research.

[FR Doc. 02-25669 Filed 10-08-02; 8:45 am]

BILLING CODE 3510-KA-M